DEPARTMENT OF ENERGY

Federal Energy Regulatory Commission

[Docket Nos. CP20-68-000; CP20-70-000; CP20-70-000]

Enable Gas Transmission, LLC, Enable Gulf Run Transmission, LLC; Notice of Application

Take notice that on February 28, 2020, Enable Gas Transmission, LLC (EGT), 910 Louisiana Street, Suite 4840, Houston, Texas 77002, filed an application pursuant to sections 7(b) and 7(c) of the Natural Gas Act (NGA), and Parts 157 and 284 of the Commission's regulations, requesting authorization to (1) construct, install, own, operate, and maintain various facilities along EGT's existing Line CP (Line CP Modifications), including modifications to two existing compressor stations, modification of three existing meter stations, and construction of two new meter stations; (2) abandon by sale certain assets related to EGT's Line CP, including the new and modified facilities described above, with the exception of Line CP-3 (located in Panola County, Texas) to Enable Gulf Run Transmission, LLC (Gulf Run); and (3) lease a portion of the capacity on Line CP from Gulf Run.

In combination with this filing, Enable Gulf Run Transmission, LLC (Gulf Run), 910 Louisiana Street, Suite 4840, Houston, Texas 77002, filed an application under sections 7(b) and 7(c) of the NGA, and Part 157 of the Commission's regulations requesting authorization to (1) construct, install, own, operate, and maintain approximately 134 miles of new natural gas transmission pipeline (Gulf Run Pipeline), and ancillary facilities to transport up to approximately 1.65 million dekatherms per day of natural gas from EGT's existing Westdale Compressor Station to a delivery point near Starks, Louisiana; (2) acquire certain assets related to EGT's Line CP from EGT; and (3) lease a portion of the capacity on Line CP back to EGT and to re-acquire a portion of such capacity following the term of the lease. Gulf Run also requests a blanket certificate, pursuant to Part 157, Subpart F of the Commission's regulations, authorizing Gulf Run to construct, operate, acquire, and abandon certain facilities, and a blanket certificate pursuant to Part 284, Subpart G of the Commission's regulations authorizing Gulf Run to provide open-access firm and interruptible interstate natural gas transportation services on a self-implementing basis with pre-granted abandonment for such services, all as more fully set forth in the application which is on file with the Commission and open for public inspection. The filing may also be viewed on the web at http://www.ferc.gov using the “eLibrary” link. Enter the docket number excluding the last three digits in the docket number field to access the document. For assistance, please contact FERC at FERCOnlineSupport@ferc.gov or toll free at (866) 208-3676, or TTY, (202) 502-8659.

Any questions regarding the proposed project should be directed to Lisa Yoho, Senior Director, Regulatory & FERC Compliance, Enable Gulf Run Transmission, LLC, Enable Gas Transmission, LLC, 910 Louisiana Street, Suite 48040, Houston, Texas 77002, or by calling (346) 701-2539 (telephone) or email at lisa.yoho@enablemidstream.com.

On April 12, 2019, the Commission staff granted the EGT and Gulf Run request to utilize the FERC's Pre-Filing Process and assigned Docket No. PF19-3-000 to staff activities involving the project. Please note that on June 12, 2019, the FERC issued a Notice of Intent to Prepare an Environmental Impact Statement for the Planned Gulf Run and Line CP Modifications Project, Request for Comments on Environmental Issues, and Notice of Public Scoping Sessions. Based on EGT's subsequent decision not to propose certain segments of originally planned pipeline and new compression as part of the filed project application, FERC staff has determined that an environmental assessment (EA) is the appropriate means to evaluate the project's environmental impacts, rather than an environmental impact statement. Now, as of the filing of the applications on February 28, 2020, the Pre-Filing Process for this project has ended. From this time forward, this proceeding will be conducted in Docket No. CP20-68-000 and CP20-70-000, as noted in the caption of this Notice.

Because the environmental review of the submitted projects includes both the Line CP Modifications and the Gulf Run Pipeline, preparation of the EA to comply with the National Environmental Policy Act of 1969 will combine both applications. Within 90 days after the issuance of this Notice of Application, the Commission staff will issue a Notice of Schedule for Environmental Review that will indicate the anticipated date for the Commission's staff issuance of the EA analyzing both proposals. The issuance of a Notice of Schedule for Environmental Review will also serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the “eFiling” link at http://www.ferc.gov. Persons unable to file electronically should submit an original and 3 copies of the protest or intervention to the Federal Energy Regulatory Commission, 888 First Street NE, Washington, DC 20426.

Comment Date: 5:00 p.m. Eastern Time on April 3, 2020.

Dated: March 13, 2020.
Kimberly D. Bose,
Secretary.

[FR Doc. 2020-05735 Filed 3-18-20; 8:45 am]

BILLING CODE 6717-01-P